SECURITIES AND EXCHANGE COMMISSION

[File No. 500-1]

In the Matter of Quintek Technologies, Inc., The Saint James Co., Urigen Pharmaceuticals, Inc., Valor Energy Corp., Wherify Wireless, Inc., and WinWin Gaming, Inc.; Order of Suspension of Trading

May 24, 2012.

It appears to the Securities and Exchange Commission that there is a lack of current and accurate information concerning the securities of Quintek Technologies, Inc. because it has not filed any periodic reports since the period ended September 30, 2007.

It appears to the Securities and Exchange Commission that there is a lack of current and accurate information concerning the securities of The Saint James Co. because it has not filed any periodic reports since the period ended September 30, 2009.

It appears to the Securities and Exchange Commission that there is a lack of current and accurate information concerning the securities of Urigen Pharmaceuticals, Inc. because it has not filed any periodic reports since the period ended March 31, 2010.

It appears to the Securities and Exchange Commission that there is a lack of current and accurate information concerning the securities of Valor Energy Corp. because it has not filed any periodic reports since the period ended February 28, 2009.

It appears to the Securities and Exchange Commission that there is a lack of current and accurate information concerning the securities of Wherify Wireless, Inc. because it has not filed any periodic reports since the period ended June 30, 2008.

It appears to the Securities and Exchange Commission that there is a lack of current and accurate information concerning the securities of WinWin Gaming, Inc. because it has not filed any periodic reports since the period ended June 30, 2006.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on May 24, 2012, through 11:59 p.m. EDT on June 7, 2012.

By the Commission.
Jill M. Peterson,
Assistant Secretary.

[FR Doc. 2012-13015 Filed 5-24-12; 4:15 pm]

BILLING CODE 8011-01-P